DEPARTMENT OF COMMERCE

International Trade Administration

[A-533-840]

Certain Frozen Warmwater Shrimp From India: Rescission of Antidumping Duty Administrative Review; 2022-2023, in Part

AGENCY: Enforcement and Compliance, International Trade Administration, Department of Commerce.

SUMMARY: On April 11, 2023, the U.S. Department of Commerce (Commerce) initiated an administrative review of the antidumping duty (AD) order on certain frozen warmwater shrimp (shrimp) from India for the period of review (POR), February 1, 2022, through January 31, 2023, for 269 companies. Because all interested parties timely withdrew their requests for administrative review for certain companies, we are rescinding this administrative review with respect to those companies. For a list of the companies for which we are rescinding this review, see Appendix I to this notice. For a list of the companies for which the review is continuing, see Appendix II to this notice.

DATES: Applicable November 22, 2023.

FOR FURTHER INFORMATION CONTACT: Terre Keaton Stefanova, AD/CVD Operations, Office IX, Enforcement and Compliance, International Trade Administration, U.S. Department of Commerce, 1401 Constitution Avenue NW, Washington, DC 20230; telephone: (202) 482-1280.

SUPPLEMENTARY INFORMATION:

Background

On February 2, 2023, Commerce published in the Federal Register a notice of opportunity to request an administrative review of the AD order on shrimp from India for the POR, February 1, 2022, through January 31, 2023.¹ In February 2022, Commerce received timely requests, in accordance with section 751(a) of the Tariff Act of 1930, as amended (the Act), to conduct an administrative review of this AD order from the Ad Hoc Shrimp Trade Action Committee (the petitioner),² the American Shrimp Processors Association (ASPA),³ and certain individual companies.⁴ Based on these requests, on April 11, 2023, in accordance with section 751(a) of the Act, Commerce published in the Federal Register a notice of initiation listing 269 companies for which Commerce received timely requests for review.⁵

¹ See Antidumping or Countervailing Duty Order, Finding, or Suspended Investigation; Opportunity to Request Administrative Review, 88 FR 7071 (February 2, 2023).

² See Petitioner's Letter, “Request for Administrative Reviews,” dated February 28, 2023.

³ See ASPA's Letter, “American Shrimp Processors Association's Request for Administrative Reviews,” dated February 23, 2023.

⁴ See Indian Producers' Letter, “Request for Administrative Reviews for Indian Producers/Exporters,” dated February 28, 2023; Magnum Sea Foods Limited's (Magnum's) and Magnum Estates Limited's (MEL's) Letter, “Magnum's Request for Administrative Review,” dated February 28, 2023; B-One Business House Pvt. Ltd.'s (B-One's) Letter, “Request for Administrative Review of B-One,” dated February 28, 2023; Megaa Moda Pvt. Ltd.'s Letter, “Request for Administrative Review of Megaa Moda Private Limited,” dated February 28, 2023; NK Marine Exports' Letter, “Request for 18th Administrative Review,” dated February 27, 2023; RSA Marines' Letter, “Request for Administrative Review of RSA Marines,” dated February 27, 2023; and Mindhola Foods' Letter, “Request for Administrative Review of Mindhola Foods LLP,” dated February 27, 2023.

⁵ See Initiation of Antidumping and Countervailing Duty Administrative Reviews, 88 FR 21609 (April 11, 2023).

In July 2023, all interested parties timely withdrew their requests for an administrative review of certain companies.⁶ These companies are listed in Appendix I.

⁶ See B-One's Letter, “B-One Withdrawal of Request for Review of the Antidumping Duty Order for the period of February 01, 2022 to January 31, 2023,” dated July 8, 2023; Magnum's and MEL's Letter, “Magnum Sea Foods Limited (Magnum) and Magnum Estates Limited (MEL) Withdrawal of Request for Review of the Antidumping Duty Order for the period of February 01, 2022 to January 31, 2023,” dated July 8, 2023; Devi Fisheries Limited's Letter, “Withdrawal of our request for Administrative Review for the period 02/01/22-01/31/23,” dated July 10, 2023; Nekkanti Sea Foods Limited's Letter, “Withdrawal of our request for Administrative Review for the period 02/01/22-01/31/23,” dated July 10, 2023; ASPA's Letter, “American Shrimp Processors Association's Partial Withdrawal of Review Requests,” dated July 10, 2023; Petitioner's Letter, “Domestic Producers' Partial Withdrawal of Review Requests,” dated July 10, 2023; Twelve Indian Producers' Letter, “Withdrawal of Requests for Administrative Reviews for 12 Indian Producers/Exporters (02/01/22-01/31/23),” dated July 10, 2023; and RSA Marines Letter, “RSA Marines Withdrawal of Request for Review of the Antidumping Duty Order on Certain Frozen Warm-water Shrimp from India (A-533-840) for the period of February 01, 2022 to January 31, 2023,” dated June 20, 2023.

Partial Rescission

Pursuant to 19 CFR 351.213(d)(1), Commerce will rescind an administrative review, in whole or in part, if a party who requested the review withdraws the request within 90 days of the date of publication of notice of initiation of the requested review. As noted above, certain parties withdrew their requests for review by the 90-day deadline. Accordingly, we are rescinding this administrative review with respect to the companies listed in Appendix I.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP no earlier than 35 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with section 751(a)(1) of the Act and 19 CFR 351.213(d)(4).

Dated: November 15, 2023.
James Maeder,
Deputy Assistant Secretary for Antidumping and Countervailing Duty Operations.

Appendix I

Akshay Food Impex Private Limited

Alashore Marine Exports (P) Ltd.

Alpha Marine

Ananda Enterprises (India) Private Limited

Ananda Aqua Applications; Ananda Aqua Exports (P) Limited; Ananda Foods

Apex Frozen Foods Limited

Aquatica Frozen Foods Global Pvt. Ltd.

Arya Sea Foods Private Limited

Asvini Fisheries Ltd.; Asvini Fisheries Private Ltd.

Avanti Frozen Foods Private Limited

BMR Exports; BMR Exports Private Limited

BMR Industries Private Limited

B-One Business House Pvt. Ltd.

Castlerock Fisheries Ltd.

Choice Trading Corporation Pvt. Ltd.

Coastal Aqua Private Limited

Coastal Corporation Ltd.

Devi Fisheries Limited; Satya Seafoods Private Limited; Usha Seafoods; Devi Aquatech Private Limited

Devi Marine Food Exports Private Ltd.; Kader Exports Private Limited; Kader Investment and Trading Company Private Limited; Liberty Frozen Foods Private Limited; Liberty Oil Mills Limited; Premier Marine Products Private Limited; Universal Cold Storage Private Limited ⁷

⁷ On December 23, 2022, Commerce determined that Kader Exports Private Limited is the successor-in-interest to the Liberty Group, which is comprised of the companies listed above. See Certain Frozen Warmwater Shrimp from India: Notice of Final Results of Antidumping Duty Changed Circumstances Review, 87 FR 78941 (December 23, 2022).

DSF Aquatech Private Limited

Falcon Marine Exports Limited; KR Enterprises

Five Star Marine Exports Private Limited

Geo Seafoods

Godavari Mega Aqua Food Park Private Limited

Growel Processors Private Limited

IFB Agro Industries Limited

ITC Ltd.

Jagadeesh Marine Exports

Jaya Lakshmi Sea Foods Pvt. Ltd.

The Kadalkanny Group; Diamond Seafoods Exports; Edhayam Frozen Foods Private Limited; Kadalkanny Frozen Foods; Theva & Company

Kalyan Aqua & Marine Exp. India Pvt. Ltd.

KNC Agro Limited; KNC AGRO PVT. LTD.

LNSK Green House Agro Products LLP

Magnum Export; Magnum Exports Pvt. Ltd.

Magnum Sea Foods Limited; Magnum Estates Limited; Magnum Estates Private; Magnum Estates Private Limited

Mangala Marine Exim India Pvt. Ltd.

Mangala Seafoods; Mangala Sea Foods

Milesh Marine Exports Private Limited

Monsun Foods Pvt. Ltd.

Mourya Aquex Pvt. Ltd.

Munnangi Seafoods (Pvt) Ltd.

Naga Hanuman Fish Packers

Neeli Aqua Private Limited

Nekkanti Mega Food Park Private Limited

Nekkanti Sea Foods Limited

Nezami Rekha Sea Foods Private Limited; Nezami Rekha Sea Food Private Limited

Nila Sea Foods Exports; Nila Sea Food Pvt. Ltd.

Pasupati Aquatics Private Limited

Penver Products (P) Ltd.

Razban Seafoods Ltd.

Royal Imports and Exports

Royale Marine Impex Pvt. Ltd.

S.A. Exports

Sagar Grandhi Exports Pvt. Ltd.

Sai Aquatechs Private Limited

Sai Marine Exports Pvt. Ltd.

Sandhya Aqua Exports Pvt. Ltd.; Sandhya Aqua Exports

Sandhya Marines Limited

Sea Foods Private Limited

Sharat Industries Ltd.

Shree Datt Aquaculture Farms Pvt. Ltd.

Southern Tropical Foods Pvt. Ltd.

Sprint Exports Pvt. Ltd.

Summit Marine Exports Private Limited

Sunrise Seafoods India Private Limited

Suryamitra Exim Pvt. Ltd.

V V Marine Products

Vasista Marine

Veerabhadra Exports Private Limited

Wellcome Fisheries Limited

Z.A. Sea Foods Pvt. Ltd.

Appendix II

Abad Fisheries; Abad Fisheries Pvt. Ltd.

Accelerated Freeze Drying Co., Ltd.

ADF Foods Ltd.

Albys Agro Private Limited

Al-Hassan Overseas Private Limited

Allana Frozen Foods Pvt. Ltd.

Allanasons Ltd.

Alps Ice & Cold Storage Private Limited

Amaravathi Aqua Exports Private Ltd.

Amarsagar Seafoods Private Limited

Amulya Seafoods

Anantha Seafoods Private Limited

Anjaneya Seafoods

Asvini Agro Exports

Ayshwarya Sea Food Private Limited

B R Traders

Baby Marine Eastern Exports

Baby Marine Exports

Baby Marine International

Baby Marine Sarass

Baby Marine Ventures

Balasore Marine Exports Private Limited

Basu International

BB Estates & Exports Private Limited

Bell Foods (Marine Division); Bell Exim Private Limited (Bell Foods (Marine Divison)); Bhatsons Aquatic Products Bhavani Seafoods

Bhavani Seafoods

Bhimraj Exports Private Limited

Bijaya Marine Products

Blue-Fin Frozen Foods Private Limited

Blue Water Foods & Exports P. Ltd.

Bluepark Seafoods Pvt. Ltd.

Britto Seafood Exports Pvt Ltd.; Britto Exports; Britto Exports Pvt Ltd.

C.P. Aquaculture (India) Pvt. Ltd.

Calcutta Seafoods Pvt. Ltd.; Bay Seafood Pvt. Ltd.; Elque & Co.

Canaan Marine Products

Capithan Exporting Co.

Cargomar Private Limited

Chakri Fisheries Private Limited

Chemmeens (Regd)

Cherukattu Industries (Marine Div); Cherukattu Industries

Choice Canning Company

Cochin Frozen Food Exports Pvt. Ltd.

Cofoods Processors Private Limited

Continental Fisheries India Private Limited

Coreline Exports

Corlim Marine Exports Private Limited

CPF (India) Private Limited

Crystal Sea Foods Private Limited

Danica Aqua Exports Private Limited

Datla Sea Foods

Deepak Nexgen Foods and Feeds Pvt. Ltd.

Delsea Exports Pvt. Ltd.

Devi Sea Foods Limited

Dwaraka Sea Foods

Empire Industries Limited

Entel Food Products Private Limited

Esmario Export Enterprises

Everblue Sea Foods Private Limited

Febin Marine Foods Private Limited; Febin Marine Foods

Fedora Sea Foods Private Limited

Food Products Pvt., Ltd.; Parayil Food Products Pvt., Ltd.

Forstar Frozen Foods Pvt. Ltd.

Fouress Food Products Private Limited

Frontline Exports Pvt. Ltd.

G A Randerian Ltd.; G A Randerian (P) Limited

Gadre Marine Exports; Gadre Marine Exports Pvt. Ltd.

Galaxy Maritech Exports P. Ltd.

Geo Aquatic Products (P) Ltd.

Grandtrust Overseas (P) Ltd.

Green Asia Impex Private Limited

GVR Exports Pvt. Ltd.

Hari Marine Private Limited

Haripriya Marine Exports Pvt. Ltd.

High Care Marine Foods Exports Private Limited

HIC ABF Special Foods Pvt. Ltd.

Highland Agro

Hiravati Exports Pvt. Ltd.

Hiravati International Pvt. Ltd.

Hiravati Marine Products Private Limited

HMG Industries Ltd.

HN Indigos Private Limited

HT Foods Private Limited

Hyson Exports Private Limited

Hyson Logistics and Marine Exports Private Limited

Indian Aquatic Products

Indo Aquatics

Indo Fisheries

Indo French Shellfish Company Private Limited

International Freezefish Exports

Jinny Marine Traders

Jude Foods India Private Limited

K.V. Marine Exports

Karunya Marine Exports Private Limited

Kaushalya Aqua Marine Product Exports Pvt. Ltd.

Kay Kay Exports; Kay Kay Foods

Kings Infra Ventures Limited

Kings Marine Products

Koluthara Exports Ltd.

Libran Foods

Lito Marine Exports Private Limited

Mangala Sea Products

Marine Harvest India

Megaa Moda Pvt. Ltd.

Milsha Agro Exports Pvt. Ltd.

Milsha Sea Products

Minaxi Fisheries Private Limited

Mindhola Foods LLP

Minh Phu Group

MMC Exports Limited

MTR Foods

Naik Frozen Foods Private Limited; Naik Frozen Foods

Naik Oceanic Exports Pvt. Ltd.; Rafiq Naik Exports Pvt. Ltd.

Naik Seafoods Ltd.

Naq Foods India Private Limited

NAS Fisheries Pvt. Ltd.

Nine Up Frozen Foods

N.K. Marine Exports LLP

Nutrient Marine Foods Limited

Oceanic Edibles International Limited

Orchid Marine Exports Private Limited

Paragon Sea Foods Pvt. Ltd.

Paramount Seafoods

Pesca Marine Products Pvt., Ltd.

Poyilakada Fisheries Private Limited

Pijikay International Exports P Ltd.

Pravesh Seafood Private Limited

Premier Exports International

Premier Marine Foods

Premier Seafoods Exim (P) Ltd.

Protech Organo Foods Private Limited

R V R Marine Products Private Limited

Raju Exports

Rajyalaksmi Marine Exports

Ram's Assorted Cold Storage Limited

Raunaq Ice & Cold Storage

RDR Exports

RF Exports Private Limited

Rising Tide

Riyarchita Agro Farming Private Limited

RSA Marines; Royal Oceans

Rupsha Fish Private Limited

S Chanchala Combines

Safera Food International

Sagar Samrat Seafoods

Sahada Exports

Sai Sea Foods

Salet Seafoods Pvt. Ltd.

Samaki Exports Private Limited

Sanchita Marine Products Private Limited

Sassoondock Matsyodyog Sahakari Society Ltd.

Sea Doris Marine Exports

Seagold Overseas Pvt. Ltd.

Seasaga Enterprises Private Limited; Seasaga Group

Shimpo Exports Private Limited

Shimpo Seafoods Private Limited

Shiva Frozen Food Exp. Pvt. Ltd.

Shroff Processed Food & Cold Storage P Ltd.

Sigma Seafoods

Silver Seafood

Sita Marine Exports

Sonia Fisheries

Sonia Marine Exports Private Limited

Sreeragam Exports Private Limited

Sri Sakkthi Cold Storage

Srikanth International

SSF Ltd.

St. Peter & Paul Sea Food Exports Pvt. Ltd.

Star Agro Marine Exports Private Limited

Star Organic Foods Private Limited

Stellar Marine Foods Private Limited

Sterling Foods

Sun Agro Exim

Supran Exim Private Limited

Suvarna Rekha Exports Private Limited

Suvarna Rekha Marines P Ltd.

TBR Exports Private Limited

Tej Aqua Feeds Private Limited

Teekay Marines Private Limited; Teekay Marine P. Ltd.

The Waterbase Limited

Torry Harris Seafoods Ltd.

Triveni Fisheries P Ltd.

U & Company Marine Exports

Ulka Sea Foods Private Limited

Uniloids Biosciences Private Limited

Uniroyal Marine Exports Ltd.

Unitriveni Overseas Private Limited; Unitriveni Overseas

Vaisakhi Bio-Marine Private Limited

Vasai Frozen Food Co.

Veronica Marine Exports Private Ltd.

Victoria Marine & Agro Exports Ltd.

Varma Marine

Vinner Marine

Vitality Aquaculture Pvt. Ltd.

VKM Foods Private Limited

VRC Marine Foods LLP

West Coast Fine Foods (India) Private Limited

West Coast Frozen Foods Private Limited

Zeal Aqua Limited

[FR Doc. 2023-25801 Filed 11-21-23; 8:45 am]

BILLING CODE 3510-DS-P